DEPARTMENT OF HEALTH AND HUMAN SERVICES

Centers for Disease Control and Prevention

Disease, Disability, and Injury Prevention and Control Special Emphasis Panel (SEP): Occupational Exposure to Putative Reproductive/Developmental Toxicants in Humans, RFA OH-01-008

In accordance with section 10(a)(2) of the Federal Advisory Committee Act (Pub. Law 92-463), the Centers for Disease Control and Prevention (CDC) announces the following meeting:

Name: Disease, Disability, and Injury Prevention and Control Special Emphasis Panel (SEP): Occupational Exposure to Putative Reproductive/Developmental Toxicants in Humans, RFA OH-01-008.

Times and Dates: 8 a.m.-8:30 a.m., May 30, 2001, (Open); 8:30 a.m.-5 p.m., May 30, 2001, (Closed); 8:30 a.m.-5 p.m., May 31, 2001, (Closed).

Place: Embassy Suites Hotel, 1900 Diagonal Road, Alexandria, VA 22314.

Status: Portions of the meeting will be closed to the public in accordance with provisions set forth in section 552b(c)(4) and (6), Title 5 U.S.C., and the Determination of the Deputy Director for Program Management, CDC, pursuant to Public Law 92-463.

Matters To Be Discussed: The meeting will include the review, discussion, and evaluation of applications received in response to Program Announcement: RFA OH-01-008.

Contact Person for More Information: Pervis C. Major, PhD., Scientific Review Administrator, National Institute for Occupational Safety and Health, CDC, 1095 Willowdale Road, M/S B228, Morgantown, West Virginia 26505, telephone 304-285-5979.

The Director, Management Analysis and Services Office has been delegated the authority to sign Federal Register notices pertaining to announcements of meetings and other committee management activities, for both the Centers for Disease Control and Prevention and the Agency for Toxic Substances and Disease Registry.

Dated: April 20, 2001.
John C. Burckhardt,
Acting Director, Management Analysis and Services Office, Centers for Disease Control and Prevention (CDC).

[FR Doc. 01-11509 Filed 5-7-01; 8:45 am]

BILLING CODE 4163-19-P